DEPARTMENT OF DEFENSE

Department of the Army

Availability of U.S. Patents for Non-Exclusive, Exclusive, or Partially Exclusive Licensing

AGENCY: U.S. Army Research Laboratory, DOD.

ACTION: Notice.

SUMMARY: In accordance with 37 CFR 404.6, announcement is made of the availability of the following U.S. patent for non-exclusive, partially exclusive or exclusive licensing. The listed patents have been assigned to the United States of America as represented by the Secretary of the Army, Washington, DC.

These patents cover a wide variety of technical arts including: An end-pumped waveguide optical splitter amplifier based on self-imaging, a high-gain, dielectic loaded, slotted waveguide antenna, a lead-acid battery life extender, and a phased array RADAR system.

Under the authority of section 11(a)(2) of the Federal Technology Transfer Act of 1986 (Pub. L. 99-502) and section 207 of Title 35, United States Code, the Department of the Army as represented by the U.S. Army Research Laboratory wish to license U.S. patents listed below in a non-exclusive, exclusive or partially exclusive manner to any party interested in manufacturing, using, and/or selling devices covered by these patents.

Title: Battery Life Extender with Engine Heat.

Inventors: Carl Campagnuolo, James J. Chopack and Jonathan E. Fine.

Patent Number: 6,172,486.

Issued Date: January 9, 2001.

Title: Radar System Having a Ferroelectric Phased Array Antenna Operating with Accurate, Automatic Environment-Calibrated, Electronic Beam Steering.

Inventors: Dale M. DiDomenico, William C. Drach and Thomas E. Koscica.

Patent Number: 6,172,642.

Issued Date: Janaury 9, 2001.

Title: High-Gain, Dielectric Loaded, Slotted Waveguide Antenna.

Inventors: Louis J. Jasper, Joseph R. Miletta and George Merkel.

Patent Number: 6,175,337.

Issued Date: January 16, 2001.

Title: End-Pumped Waveguide Optical Splitter-Amplifiers Based on Self-Imaging.

Inventors: David M. Mackie.

Patent Number: 6,178,276.

Issued Date: January 23, 2001.

FOR FURTHER INFORMATION CONTACT: Norma Cammaratta, Technology Transfer Office, AMSRL-CS-TT, U.S. Army Research Laboratory, Adelphi, MD 20783-1197. Telephone: (301) 394-2952 or Fax: (301) 394-5818.

SUPPLEMENTARY INFORMATION: None.

Luz D. Ortiz,
Army Federal Register Liaison Officer.

[FR Doc. 01-7918 Filed 3-29-01; 8:45 am]

BILLING CODE 3710-08-M